DEPARTMENT OF COMMERCE

International Trade Administration

A-570-904

Postponement of Preliminary Determination of Antidumping Duty Investigation: Certain Activated Carbon from the People's Republic of China

AGENCY: Import Administration, International Trade Administration, Department of Commerce.

EFFECTIVE DATE: August 2, 2006.

FOR FURTHER INFORMATION CONTACT: Catherine Bertrand or Carrie Blozy, Import Administration, International Trade Administration, U.S. Department of Commerce, 14th Street and Constitution Avenue, N.W., Washington, DC 20230; telephone: (202) 482-3207 or (202) 482-5403, respectively.

SUPPLEMENTARY INFORMATION:

Postponement of Preliminary Determination

On March 28, 2006, the Department of Commerce (“Department”) initiated the antidumping duty investigation of certain activated carbon from the People's Republic of China. See Initiation of Antidumping Duty Investigation: Certain Activated Carbon From the People's Republic of China, 71 FR 16757 (April 4, 2006). The notice of initiation stated that the Department would make its preliminary determination for this antidumping duty investigation no later than 140 days after the date of issuance of the initiation.

On July 21, 2006, Calgon Carbon Corporation and NORIT Americas Inc. (“Petitioners”) made a timely request pursuant to 19 CFR 351.205(e) for a fifty-day postponement of the preliminary determination, until October 4, 2006. Petitioners requested postponement of the preliminary determination to allow the Department additional time in which to review the complex questionnaire responses and issue requests for clarification and additional information.

For the reasons identified by the Petitioners, and because there are no compelling reasons to deny the request, the Department is postponing the preliminary determination under section 733(c)(1)(A) of the Tariff Act of 1930, as amended (“the Act”), by fifty days to October 4, 2006. The deadline for the final determination will continue to be 75 days after the date of the preliminary determination, unless extended.

This notice is issued and published pursuant to sections 733(c)(2) of the Act and 19 CFR 351.205(f)(1).

Dated: July 26, 2006.
David Spooner,
Assistant Secretary for Import Administration.

[FR Doc. E6-12474 Filed 8-1-06; 8:45 am]

BILLING CODE 3510-DS-S